DEPARTMENT OF TRANSPORTATION

National Highway Traffic Safety Administration

[Docket No. NHTSA-2022-0066]

Ford Motor Company—Petition for Temporary Exemption From Various Requirements of the Federal Motor Vehicle Safety Standards for an Automated Driving System-Equipped Vehicle; Withdrawal

AGENCY: National Highway Traffic Safety Administration (NHTSA), Department of Transportation (DOT).

ACTION: Petition for temporary exemption; withdrawal.

SUMMARY: This notice notifies the public that Ford Motor Company (Ford) has withdrawn its July 2021 petition for temporary exemption from various requirements of the Federal motor vehicle safety standards (FMVSS) for a vehicle equipped with an automated driving system (ADS).

FOR FURTHER INFORMATION CONTACT: Callie Roach, Office of the Chief Counsel, National Highway Traffic Safety Administration, 1200 New Jersey Avenue SE, Washington, DC 20590. Telephone: 202-366-2992; Fax: 202-366-3820.

SUPPLEMENTARY INFORMATION: NHTSA received a petition from Ford Motor Company (Ford) on July 28, 2021, requesting a temporary exemption from portions of seven FMVSS.¹ In accordance with statutory and administrative provisions, NHTSA published a notice announcing receipt of Ford's petition and seeking public comment on July 21, 2022.² On February 13, 2023, Ford notified NHTSA in writing of its decision to withdraw its July 2021 petition. Accordingly, NHTSA will take no further action on Ford's petition.

¹ A copy of Ford's petition can be found in the docket referenced at the beginning of this notice.

² 87 FR 43602.

Authority: 49 U.S.C. 30113 and 30166; delegation of authority at 49 CFR 1.95.

Issued in Washington, DC, under authority delegated in 49 CFR 1.95.
K. John Donaldson,
Deputy Chief Counsel.

[FR Doc. 2023-06670 Filed 3-30-23; 8:45 am]

BILLING CODE 4910-59-P